DEPARTMENT OF LABOR

Employment and Training Administration

Notice of Determinations Regarding Eligibility to Apply for Worker Adjustment Assistance and NAFTA Transitional Adjustment Assistance

In accordance with section 223 of the Trade Act of 1974, as amended, the Department of Labor herein presents summaries of determinations regarding eligibility to apply for trade adjustment assistance for workers (TA-W) issued during the period of December, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,967; Bethlehem Steel Corp., Lackawanna Coke Div., Lackawanna, NY

TA-W-39,977; Lamtech, LLC, Hartsville, TN

TA-W-39,234; Globe Building Materials, Inc., Cornell, WI

TA-40,186; B.G. Sullzle, Syracuse, NY

TA-W-39,580 & A; Elkay Manufacturing Co., Lanark, IL and Oakbrook, IL

TA-W-40.065; Haemerw-right Tool and Die, Inc., Saegertown, PA

TA-W-39,694; C.T. Gamble Acquisition Corp., Ohmite Holding, LLC, Delanco, NJ

TA-W-39,067A; Thomson Saginaw Ball Screw Co. LLC, Cut Center, Saginaw, MI>

TA-W-40,168; Stitches, Inc., El Paso, TX

In the following cases, the investigation revealed that the criteria for eligibility have not been met for the reasons specified.

Increased imports did not contribute importantly to worker separations at the firm.

TA-W-39,681; United Shoe Machinery Corp., Wilmington, MA

TA-W-40,119; Tennford Weaving, Sanford, ME

TA-W-39,959; Teccor Electronics, A Div. Of Invensys, Irving, TX

TA-W-40,091; Bolivar Tees, Bolivar, MO

TA-W-39,988; Stephens Pipe and Steel, Russell Springs, KY

TA-W-40,118; Displaytech, Inc., Longmont, Co

TA-W-39,868; Yarway Corp., A Div. of Tyco International, Blue Bell, PA

TA-W-39,850; Seagate Technology, Shakopee, MN

TA-W-38,751; Dayton Tire, Oklahoma City, OK

The workers firm does not produce an article as required for certification under section 222 of the Trade Act of 1974.

TA-W-39,935; Contract Apparel, Inc., El Paso, TX

TA-W-40,098; Toastmaster, Inc., A Subsidiary of Salton, Inc., Boonville, MO

TA-W-40,023; National Ford Chemicals Co., Inc., Fort Mill, SC

TA-W-39,974; Motorola, Inc., Global Telecommunications Solution Sector, Arlington Heights, IL

Affirmative Determinations for Worker Adjustment Assistance

The following certifications have been issued; the date following the company name and location of each determination references the impact date for all workers of such determination.

TA-W-39,067; Thomson Saginaw Ball Screw Co LLC, Saginaw, MI: April 3, 2000

TA-W-40,221; Olympic Mill Services, A Div. Of Tube City, Inc., Employed at Auburn Steel Co., Lemont, IL: September 26, 2000.

TA-W-39,566; Louisiana Pacific Corp., Rouge River Veneer Plant, Rogue River, OR: June 12, 2000.

TA-W-39,271; The CustomShop, com, Franklin, NJ: May 2, 200.

TA-W-39,407; Greer Steel Co., Dover, OH: June 7, 2000.

TA-W-114; Caroll Wren, Inc., Long Island City, NY: April 10, 2000.

TA-W-40,021 & A; Alba-Waldensian, Inc., Rutherfordton Plant, Rutherfordton, NC and John Louis Plant, Valdese, NC: August 27, 2000.

TA-W-40,024; Phillips-Van Heusen, Ozark, AL: August 28, 2000.

TA-W-40,019 & A; Carolina Mills, Inc., Plant #23, Gastonia, NC and Plant #26, St. Pauls, NC: August 29, 2000.

TA-W-39,715; Ansell Healthcare, Inc., Massillon, OH: July 20, 2000.

TA-W-39,962; Specialty Coatings of Virginia, Ltd, Ridgeway, VA: August 20, 2000.

TA-W-40,159; Mirello Manufacturing, Cartersville, GA: September 18, 2000.

TA-W-40,129; Partek Forest, LLC, Gladstone, MI: September 17, 2000.

TA-W-40,139; Volvo Construction Equipment North America, Inc., Asheville Plant, Skyland, NC: September 13, 2000.

TA-W-39,419; Kentucky Electric Steel, Ashland, KY: May 11, 2000.

TA-W-39,406; Artesyn Technolgoies, Red Falls, MN: May 21, 2000.

TA-W-40,116; Metro Fabrics, Inc., New York, NY: September 10, 2000.

TA-W-40,141; Findlay Industries, Ohio City, OH: September 5, 2000.

TA-W-40,210; Tepro of Florida, Inc., Clearwater, FL: September 25, 2000.

TA-W-40,045; Maxwell Corp of America, Conyers, GA: August 28, 2000.

TA-W-40,169; Curtain and Drapery Fashions, Gastonia, NC: September 20, 2000.

TA-W-409,015; Versatile Mold and Design, Inc., Rutledge, GA: August 28, 2000.

TA-W-40,154; E-H Barre, Robinson, IL: September 9, 2000.

TA-W-39,623; E.J. Victor, Inc., Casegoods Div., Morganton, NC: July 2, 2000.

TA-W-39,329; Dystar L.P., Mt Holly, NC: May 15, 2000.

TA-W-40,166; Security Chain Manufacturing, Div. of Burns Brothers, Inc., Clackamas, OR: September 12, 2000.

TA-W-39,210; General Electric Co., Industrial Systems, Houston, TX: April 26, 2000.

TA-W-39,972; Tyco Electronics Corp., Communications, Computer and Electronics Div., Carlisle, PA: August 23, 2000.

TA-W-40,334; Matel, Inc., Murray Production Facility, Murray, KY: October 26, 2000.

TA-W-40,187; Advanced Wood Resources, Brownsville, OR: September 22, 2000.

TA-W-39,871; McCord Winn Textron, A Div. Of Textron Automotive Co., Inc., Manchester, NH: August 20, 2000.

TA-W-40,265; McGhan Medical, Santa Barbara, CA: Sepgember 29, 2000.

TA-W-39,451; Phelps Dodge Morenci, Inc., Morenci, AZ: June 4, 2000.

TA-W-39,803; New Monarch Tool, Inc., Cortland, NY: July 26, 2000.

TA-W-39,927; Pechiney Plastic Packaging, Inc., Cleveland, OH: August 10, 2000.

TA-W-39,899; Tyco Electronics Corp., East Berlin, PA: August 3, 2000.

TA-W-39,563; Excalibur Tubing Corp., Benwood, WV: June 15, 2000.

TA-W-39,088; WSW Company of Sharon, Inc., Sharon, TN: April 5, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of December, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases of imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05352; Visteon Systems, LLC, Connersville, IN

NAFTA-TAA-05518; Appleton Papers, Inc., Harrisburg Plant, Camp Hill, PA

NAFTA-TAA-05360; Con Lime, Inc., Bellefonte, PA

NAFTA-TAA-05262; Lamtech, LLC, Hartsville, TN

NAFTA-TAA-04781; Globe Building Materials, Inc., Cornell, WI

NAFTA-TAA-04958; Philips Display Components, Display Components, Ottawa, OH

NAFTA-TAA-05421; Stitches, Inc., El Paso, TX

NAFTA-TAA-05389; Stephens Pipe and Steel, Russell Springs, KY

NAFTA-TAA-04780; WSW Company of Sharon, Inc., Sharon, TN

NAFTA-TAA-05281; Haemer-Wright Tool and Die, Inc., Saegertown, PA

NAFTA-TAA-04759A; Thomson Saginaw Ball Screw Company LLC, Cut Center, Saginaw, MI

The workers firm does not produce an article as required for certification under section 250(a), Subchapter D, Chapter 2, Title II, of the Trade Act of 1974, as amended.

NAFTA-TAA-05295; Genlyte Thomas Group, LLC, Hopkinsville, KY

NAFTA-TAA-05550; Datamark, Inc., El Paso, TX

NAFTA-TAA-05274; Toastmaster, Inc., A Subsidiary of Salton, Inc., Boonville, MO

Affirmative Determinations NAFTA-TAA

NAFTA-TAA-04759; Thomson Saginaw Ball Screw Company LLC, Saginaw, MI: April 12, 2000.

NAFTA-TAA-05001; Louisiana Pacific Corp., Rogue River Veneer Plant, Rogue River, OR: June 18, 2000.

NAFTA-TAA-05259; Specialty Coatings of Virginia, Ltd, Ridgeway, VA: August 20, 2000.

NAFTA-TAA-05212; Yarway Corp., A Div. of Tyco International, Blue Bell, PA: August 8, 2000.

NAFTA-TAA-05420; Communications and Power Industries, Inc., Satcom Div., Palo Alto, CA: October 4, 2000.

NAFTA-TAA-05322; Volvo Construction Equipment North America, Inc., Asheville Plant, Skyland, NC: September 13, 2000.

NAFTA-TAA-05468; CW Industries, Hazleton Enterprises, Hazleton, PA: October 22, 2000.

NAFTA-TAA-05246; Teccor Electronics, A Div. of Invensys, Irving, TX: August 17, 2000.

NAFTA-TAA-05523; Motorola, Automotive Communications and Electronics Systems, Elk Grove Village, IL: November 5, 2000.

NAFTA-TAA-05333; Tyco International, Anderson Greenwood Crosby Div., Wrentham, MA: August 31, 2000.

NAFTA-TAA-05363; Advanced Wood Resources, Brownville, OR September 22, 2000.

NAFTA-TAA-05317; Tyco Electronics Corp., Communications, Computer and Electronics Div., Carlisle, PA: September 7, 2000.

NAFTA-TAA-05474; Bremen-Bowdon Investment Company, Bowdon, GA: October 24, 2000.

NAFTA-TAA-05487; Crouzet Corp., Carrollton, TX: June 29, 2001.

NAFTA-TAA-05243; Maxell Corp., of America, Conyers, GA: August 29, 2000.

NAFTA-TAA-5189; Tyco Electronics Corp., East Berlin, PA: August 3, 2000.

NAFTA-TAA-05251; Willamette Industries, Inc., Korpine Div., Bend, OR: August 17, 2000.

NAFTA-TAA-05458; Scientific Atlanta, Inc., Norcross, GA: October 22, 2000.

NAFTA-TAA-05044; Kimlor Mills, Inc., Orangeburg, SC: June 30, 2000.

NAFTA-TAA-05308 and A; Carolina Mills, Inc., Plant #23, Gastonia, NC and Plant #26, St. Pauls, NC: September 4, 2000.

I hereby certify that the aforementioned determinations were issued during the month of December, 2001. Copies of these determinations are available for inspection in Room C-5311, U.S. Department of Labor, 200 Constitution Avenue, NW., Washington, DC 20210 during normal business hours or will be mailed to persons who write to the above address.

Dated: December 18, 2001.
Edward A. Tomchick,
Director, Division of, Trade Adjustment Assistance.

[FR Doc. 01-31625 Filed 12-21-01; 8:45 am]

BILLING CODE 4510-30-M